DEPARTMENT OF ENERGY

Federal Energy Regulatory Commission

Combined Notice of Filings #2

Take notice that the Commission received the following electric rate filings:

Docket Numbers: ER11-3443-001.

Applicants: UNS Electric, Inc.

Description: UNS Electric, Inc. submits tariff filing per 35.17(b): Revision to Amendment to SGIA of UNSE to be effective 4/28/2011.

Filed Date: 04/29/2011.

Accession Number: 20110429-5242.

Comment Date: 5 p.m. Eastern Time on Friday, May 20, 2011.

Docket Numbers: ER11-3444-001.

Applicants: Tucson Electric Power Company.

Description: Tucson Electric Power Company submits tariff filing per 35.17(b): Revision to Amendment to SGIA and LGIA of Tucson Electric Power to be effective 4/28/2011.

Filed Date: 04/29/2011.

Accession Number: 20110429-5241.

Comment Date: 5 p.m. Eastern Time on Friday, May 20, 2011.

Docket Numbers: ER11-3465-000

Applicants: New York Independent System Operator, Inc, Niagara Mohawk Power Corporation.

Description: New York Independent System Operator, Inc. submits tariff filing per 35.13(a)(2)(iii: TO agreement NiMo NYPA 1742 to be effective 2/1/2011.

Filed Date: 04/29/2011.

Accession Number: 20110429-5121.

Comment Date: 5 p.m. Eastern Time on Friday, May 20, 2011.

Docket Numbers: ER11-3466-000.

Applicants: Duke Energy Carolinas, LLC.

Description: Duke Energy Carolinas, LLC submits tariff filing per 35.13(a)(2)(iii: PEMC NITSA to be effective 4/1/2011.

Filed Date: 04/29/2011.

Accession Number: 20110429-5126.

Comment Date: 5 p.m. Eastern Time on Friday, May 20, 2011.

Docket Numbers: ER11-3467-000.

Applicants: BlueChip Energy LLC.

Description: BlueChip Energy LLC submits tariff filing per 35.12: MBR Authority Filing to be effective 4/29/2011.

Filed Date: 04/29/2011.

Accession Number: 20110429-5129.

Comment Date: 5 p.m. Eastern Time on Friday, May 20, 2011.

Docket Numbers: ER11-3468-000.

Applicants: Arizona Public Service Company.

Description: Arizona Public Service Company submits tariff filing per 35.13(a)(2)(iii: Amortization and recovery of certain deferred vegetation management expenses to be effective 7/1/2011.

Filed Date: 04/29/2011.

Accession Number: 20110429-5155.

Comment Date: 5 p.m. Eastern Time on Friday, May 20, 2011.

Docket Numbers: ER11-3469-000.

Applicants: Louisville Gas and Electric Company.

Description: Louisville Gas and Electric Company submits tariff filing per 35.13(a)(2)(iii: 04_29_11 Revs OATT Att A_A1_B to be effective 6/28/2011.

Filed Date: 04/29/2011.

Accession Number: 20110429-5341.

Comment Date: 5 p.m. Eastern Time on Friday, May 20, 2011.

Docket Numbers: ER11-3470-000.

Applicants: ISO New England Inc.

Description: ISO New England Inc. submits tariff filing per 35.13(a)(2)(iii: CTMEEC Schedule 21 to be effective 6/1/2011.

Filed Date: 04/29/2011.

Accession Number: 20110429-5343.

Comment Date: 5 p.m. Eastern Time on Friday, May 20, 2011.

Take notice that the Commission received the following electric securities filings:

Docket Numbers: ES11-26-000.

Applicants: Entergy Louisiana, LLC.

Description: Application of Entergy Louisiana, LLC, for Authorization Under FPA Section 204.

Filed Date: 04/29/2011.

Accession Number: 20110429-5299.

Comment Date: 5 p.m. Eastern Time on Friday, May 20, 2011.

Docket Numbers: ES11-27-000.

Applicants: Entergy Gulf States Louisiana, L.L.C.

Description: Application of Entergy Gulf States Louisiana, L.L.C., for Authorization Under FPA Section 204.

Filed Date: 04/29/2011.

Accession Number: 20110429-5317.

Comment Date: 5 p.m. Eastern Time on Friday, May 20, 2011.

Docket Numbers: ES11-28-000.

Applicants: Entergy Mississippi, Inc.

Description: Application of Entergy Mississippi, Inc., for Authorization Under FPA Section 204.

Filed Date: 04/29/2011.

Accession Number: 20110429-5320.

Comment Date: 5 p.m. Eastern Time on Friday, May 20, 2011.

Docket Numbers: ES11-29-000.

Applicants: Entergy Texas, Inc.

Description: Application of Entergy Texas, Inc., for Authorization Under FPA Section 204.

Filed Date: 04/29/2011.

Accession Number: 20110429-5321.

Comment Date: 5 p.m. Eastern Time on Friday, May 20, 2011.

Docket Numbers: ES11-30-000.

Applicants: System Energy Resources, Inc.

Description: Application of System Energy Resources, Inc., for Authorization Under FPA Section 204.

Filed Date: 04/29/2011.

Accession Number: 20110429-5327.

Comment Date: 5 p.m. Eastern Time on Friday, May 20, 2011.

Take notice that the Commission received the following land acquisition reports:

Docket Numbers: LA11-1-000.

Applicants: Spring Canyon Energy LLC, Judith Gap Energy LLC, Invenergy TN LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, Vantage Wind Energy LLC, White Oak Energy LLC.

Description: Generation Site Report First Quarter 2011 of Spring Canyon Energy LLC, et al.

Filed Date: 04/29/2011.

Accession Number: 20110429-5205.

Comment Date: 5 p.m. Eastern Time on Friday, May 20, 2011.

Docket Numbers: LA11-1-000.

Applicants: CinCap IV LLC, CinCap V, LLC, Cinergy Capital & Trading, Inc., Duke Energy Commercial Asset Management, Inc., Duke Midwest Operating Companies, Duke Energy Carolinas, LLC, Duke Energy Indiana, Inc., Duke Energy Kentucky, Inc., Duke Energy Ohio, Inc., Duke Energy Retail Sales, LLC, Duke Energy Trading and Marketing, LLC, Happy Jack Windpower, LLC, North Allegheny Wind, LLC, Silver Sage Windpower, LLC, St. Paul Cogeneration, LLC, Three Buttes Windpower, LLC, Kit Carson Windpower, LLC, Top of the World Energy, LLC.

Description: Q1 update of Duke Energy Corporation.

Filed Date: 04/29/2011.

Accession Number: 20110429-5301.

Comment Date: 5 p.m. Eastern Time on Friday, May 20, 2011.

Docket Numbers: LA11-1-000.

Applicants: Alabama Electric Marketing, LLC, Big Sandy Peaker Plant, LLC, California Electric Marketing, LLC, Crete Energy Venture, LLC, High Desert Power Project, LLC, Kiowa Power Partners, LLC, Lincoln Generating Facility, LLC, New Covert Generating Company, LLC, New Mexico Electric Marketing, LLC, Rolling Hills Generating, L.L.C., Tenaska Alabama Partners, L.P., Tenaska Alabama II Partners, L.P., Tenaska Frontier Partners, Ltd., Tenaska Gateway Partners, Ltd., Tenaska Georgia Partners, L.P., Tenaska Power Services Co., Tenaska Virginia Partners, L.P., Tenaska Washington Partners, L.P., Texas Electric Marketing, LLC, TPF Generating Holdings, LLC, University Park Energy, LLC, Wolf Hills Energy, LLC.

Description: Report/Form of Rolling Hills Generating, LLC, et al.

Filed Date: 04/29/2011.

Accession Number: 20110429-5318.

Comment Date: 5 p.m. Eastern Time on Friday, May 20, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: April 29, 2011.
Nathaniel J. Davis, Sr.,
Deputy Secretary.

[FR Doc. 2011-11320 Filed 5-9-11; 8:45 am]

BILLING CODE 6717-01-P